DEPARTMENT OF JUSTICE

Office of Juvenile Justice and Delinquency Prevention

[OJP (OJJDP) Docket No. 1376]

Program Announcement for the Internet Crimes Against Children Task Force Program

AGENCY: Office of Juvenile Justice and Delinquency Prevention, Office of Justice Programs, Justice.

ACTION: Notice of solicitation.

SUMMARY: The Office of Juvenile Justice and Delinquency Prevention (OJJDP) is requesting applications from state and local law enforcement agencies interested in participating in the Internet Crimes Against Children (ICAC) Task Force Program. In an effort to expand ICAC Regional Task Force coverage to areas that do not currently have an ICAC Regional Task Force presence, this solicitation is limited to State and local law enforcement agencies in the following states and localities: Arkansas; New Jersey; northern Florida;¹ the Los Angeles, California, metropolitan area;² and the northern Virginia/Washington, DC metropolitan area (excluding Maryland).³ Only one grant will be awarded per State/locality listed above. This program encourages communities to develop regional multidisciplinary, multijurisdictional task forces to prevent, interdict, and investigate sexual exploitation offenses committed by offenders who use online technology to victimize children.

¹ For the purpose of this solicitation, northern Florida is defined as counties and cities north of, and including, Hillsborough County, Indian River County, Osceola County, and Polk County.

² For the purpose of this solicitation, the Los Angeles metropolitan area is defined as cities and towns within, and including, Los Angeles County, Orange County, Riverside County, San Bernardino County, and Ventura County.

³ For the purpose of this solicitation, the northern Virginia/Washington, DC, metropolitan area (excluding Maryland) is defined as the cities of Washington, DC; Alexandria, Virginia; and Falls Church, Virginia, and the cities and towns in Virginia within, and including, Arlington County, Fairfax County, Loudoun County, Prince William County, and Stafford County.

DATES: Applications must be received by July 7, 2003.

FOR FURTHER INFORMATION CONTACT: Chris Holloway, 202-305-9838, ICAC Program Manager, Child Protection Division, Office of Juvenile Justice and Delinquency Prevention.

SUPPLEMENTARY INFORMATION:

Purpose

Due to an increase in funding, this solicitation is being extended to further expand the ICAC Task Force program to provide national coverage beyond that established through grants awarded under this program in 2002. Funding the specific states and regions identified in this solicitation will further this goal.

The purpose of this program is to help state and local law enforcement agencies enhance their investigative response to offenders who use the Internet, online communication systems, or other computer technologies to sexually exploit children. Throughout this program announcement, “Internet crimes against children” refers to the sexual exploitation of children that is facilitated by computers and includes crimes of child pornography and online solicitation for sexual purposes.

Background

Unlike some adults who view the benefits of the Information Age dubiously, children and teenagers have seized the Internet's educational and recreational opportunities with astonishing speed. Adapting information technology to meet everyday needs, young people are increasingly going online to meet friends, get information, purchase goods and services, and complete school assignments. Currently, 28 million children and teenagers have access to the Internet; industry experts predict that they will be joined by another 50 million globally by 2005. Although the Internet gives children and teenagers access to valuable resources, it also increases their risk of being sexually exploited or victimized.

When online, large numbers of young people encounter sexual solicitations they do not want and sexual material they do not seek. In the most serious cases, they are targeted by offenders seeking children for sex. Research conducted by the University of New Hampshire revealed that one in five children between ages 10 and 17 received a sexual solicitation over the Internet in 1999. One in 33 received an aggressive solicitation from someone who asked to meet them somewhere, called them on the telephone, or sent them mail, money, or gifts.

Cloaked in the anonymity of cyberspace, sex offenders can capitalize on the natural curiosity of children and seek victims with little risk of detection. Preferential sex offenders no longer need to lurk in parks and malls. Instead, they can roam from chat room to chat room, trolling for children susceptible to victimization. This alarming activity has grave implications for parents, teachers, and law enforcement officers because it circumvents conventional safeguards and provides sex offenders with virtually unlimited opportunities for unsupervised contact with children.

Today's Internet is also rapidly becoming the new marketplace for offenders seeking to acquire material for their child pornography collections. Child pornography depicts the sexual assault of children and is often used by child molesters to recruit, seduce, and control their victims. Child pornography is used to break down inhibitions, validate sex between children and adults as normal, and control victims throughout their molestation. When offenders lose interest in their victims, child pornography is often used as blackmail to ensure the child's silence; when posted on the Internet, pornography becomes an enduring and irretrievable record of victimization and a relentless violation of that child's privacy.

OJJDP recognizes that the increasing online presence of children, the lure of predators searching for unsupervised contact with underage victims, and the proliferation of child pornography present a significant threat to the health and safety of children and a formidable challenge to law enforcement today and into the foreseeable future. Three main factors complicate law enforcement's response to these challenges.

First, conventional definitions of jurisdiction are practically meaningless in the electronic universe of cyberspace; very few investigations begin and end within the same geographical area. Because they involve multiple jurisdictions, most investigations require close coordination and cooperation between Federal, State, and local law enforcement agencies.

Second, evidence collection in ICAC investigations typically requires specialized expertise and equipment. Because preferential sex offenders tend to be avid recordkeepers, their computers, magnetic media, and related equipment can be valuable sources of evidence. However, routine forensic examination procedures are insufficient for seizing, preserving, and analyzing this information. In addition, the seizure of computers and related technology may lead to specific legal issues regarding property and privacy rights.

Third, routine interviewing practices are inadequate for collecting testimonial evidence from child victims of Internet crimes. Some children deny they are victims because they fear embarrassment, ridicule from their peers, or discipline from their parents. Other victims bond with the offender, remain susceptible to further manipulation, or resent what they perceive as interference from law enforcement. Investigators who do not fully understand the dynamics of juvenile sexual exploitation risk losing critical information that could help convict perpetrators or identify additional victims. When appropriate, medical and psychological evaluations should be a part of law enforcement's response to cases involving child victims. In addition to ensuring that injuries or diseases related to the victimization are treated, forensic medical examinations provide crucial corroborative evidence.

The above factors almost routinely complicate the investigative process. Although no two cases raise identical issues of jurisdiction, evidence collection, and victim services, it is logical to presume that investigations characterized by a multijurisdictional, multidisciplinary approach will more likely result in successful prosecutions.

A variety of Federal activities are helping and can further help law enforcement respond to these offenses. For example, the Innocent Images National initiative, managed by the Federal Bureau of Investigation's (FBI's) Cyber Division, Innocent Images Unit, works specifically on cases involving computer-facilitated child sexual exploitation. The U.S. Customs Service (USCS) and the U.S. Postal Inspection Service (USPIS) have successfully investigated hundreds of child pornography cases.

The Child Exploitation and Obscenity Section (CEOS) of the U.S. Department of Justice prosecutes Federal violations and offers advice and litigation support to Federal, State, and local prosecutors working on child pornography and sexual exploitation cases.

With support from OJJDP and private-sector funding, the National Center for Missing and Exploited Children (NCMEC) serves as the nation's primary resource center and clearinghouse for issues involving missing and exploited children. NCMEC's Training Division coordinates a comprehensive training and technical assistance program that includes prevention and awareness activities. Gathering information from citizens and Internet service providers, the CyberTipline (http://www.missingkids.com) collects online reports regarding the computer-facilitated sexual exploitation of children and rapidly forwards this information to the law enforcement agencies with investigative jurisdiction. Brought online in March 1998, the CyberTipline has provided law enforcement officers with information that has enabled them to arrest individuals seeking sex with underage victims and to safely recover and return children enticed from home by sex offenders.

NCMEC's law enforcement training and technical assistance program was developed in partnership with OJJDP, the FBI, USCS, USPIS, and CEOS. NCMEC has also developed an education and awareness campaign that features the Kids and Company curriculum, the Know the Rules teen awareness program, and two pamphlets (Child Safety on the Information Highway and Teen Safety on the Information Highway) that provide information about safe Internet practices for children and youth. These programs and materials are offered free of charge, and OJJDP encourages communities working on child victimization issues to use them. Additional information about NCMEC's services for children, parents, educators, and law enforcement officers can be obtained by calling 800-THE-LOST or by accessing NCMEC's Web site at http://www.missingkids.com.

Since fiscal year 1998, OJJDP has awarded funds to 35 State and local law enforcement agencies to develop regional multijurisdictional and multiagency task forces to prevent, interdict, and investigate ICAC offenses. The following jurisdictions currently receive ICAC Regional Task Force Program funding: Alabama Department of Public Safety; Bedford County, Virginia, Sheriff's Department; Broward County, Florida, Sheriff's Department; Clark County, Nevada, Las Vegas Metropolitan Police Department; Colorado Springs, Colorado, Police Department; Connecticut State Police; Cuyahoga County, Ohio, District Attorney; Dallas, Texas, Police Department; Delaware County, Pennsylvania, District Attorney; Georgia Bureau of Investigation; Hawaii Office of the Attorney General; Illinois State Police; Indiana State Police; Kentucky State Police; Knoxville, Tennessee, Police Department; Louisiana Office of the Attorney General; Maryland State Police; Massachusetts Department of Public Safety; Michigan State Police; Nebraska State Patrol; New York State Division of Criminal Justice Services; North Carolina Division of Criminal Investigation; Oklahoma State Bureau of Investigation; Phoenix, Arizona, Police Department; Portsmouth, New Hampshire, Police Department; Sacramento County, California, Sheriff's Office; Saint Paul, Minnesota, Police Department; San Diego, California, Police Department; San Jose, California, Police Department; Seattle, Washington, Police Department; Sedgewick County, Kansas, Sheriff's Office; South Carolina Office of the Attorney General; Utah Office of the Attorney General; Wisconsin Department of Justice; and the Wyoming Division of Criminal Investigation. These agencies have become regional clusters of ICAC technical and investigative expertise, offering prevention and investigation services to children, parents, educators, law enforcement officers, and other individuals working on child sexual exploitation issues. Collectively, task force agencies have made more than 800 arrests, seized more than 900 computers, and provided forensic or investigative assistance in nearly 3,000 cases.

Despite these accomplishments, law enforcement agencies continue to be increasingly challenged by sex offenders who use computer technology to victimize children. To help meet this challenge, OJJDP is continuing the ICAC Regional Task Force Program, which will competitively award cooperative agreements to state and local law enforcement agencies seeking to improve their investigative responses to the computer-facilitated sexual exploitation of children.

Program Strategy

The ICAC Task Force Program seeks to enhance the nationwide response to child victimization by maintaining and expanding a State and local law enforcement network composed of regional task forces. The program encourages communities to develop multijurisdictional, multiagency responses and provides funding to State and local law enforcement agencies to help them acquire the knowledge, personnel, and specialized equipment needed to prevent, interdict, and investigate ICAC offenses. Although the ICAC Task Force Program emphasizes law enforcement investigations, OJJDP encourages jurisdictions to include intervention, prevention, and victim services activities as part of their comprehensive approach.

OJJDP Program Management

During the past four years of managing the ICAC Task Force Program, OJJDP has made the following observations:

1. The Internet challenges traditional thinking about law enforcement jurisdiction and renders city, county, and State boundaries virtually meaningless. Because of this jurisdictional ambiguity, offenders are often able to frustrate enforcement actions and conceal their criminal activities.

2. Nearly all ICAC investigations (95 percent) involve substantial communication and coordination efforts among Federal, State, and local law enforcement agencies. Without meaningful case coordination, law enforcement agencies may inadvertently investigate identical suspects and organizations, target undercover operatives of other law enforcement agencies, or disrupt clandestine investigations of other agencies.

• The obvious need for interagency cooperation and coordination has sustained interest in maintaining standards for ICAC undercover investigations. Representatives from Federal, State, and local law enforcement agencies have repeatedly expressed concern about initiating investigations that are based on referrals from outside agencies—referrals that may be predicated on information acquired through inappropriate officer conduct or investigative techniques.

• The clandestine nature of undercover operations, the anonymity of Internet users, and the unclear jurisdictional boundaries of cyberspace significantly exacerbate these investigative concerns. Undercover operations, when executed and documented properly, collect virtually unassailable evidence regarding a suspect's predilection to sexually exploit children. These operations allow law enforcement agencies to go on the offensive and, most important, protect children from revictimization. Although carefully managed undercover operations by well-trained officers can be very effective, these operations also generate concerns regarding legal, coordination, communication, and resource management issues.

3. Although Internet awareness appears to be growing, many children, teenagers, and parents are not sufficiently informed about the potential dangers and repercussions of releasing personal information to, or meeting with, individuals encountered online.

4. Although Federal agencies are responsible for monitoring illegal interstate and telecommunications activities, protecting children is primarily the responsibility of State and local law enforcement agencies. The production of child pornography or the sexual assault of a child—whether originating online or not—usually creates both a jurisdictional interest and a responsibility for State and local authorities.

• Despite the belief that these cases are usually manufactured by undercover operations in which officers pose as minors in chat rooms, most ICAC investigations are initiated in response to a citizen complaint or a request from law enforcement. Unfortunately, these cases often involve multiple victims who require a response by both local law enforcement and victim services.

5. The Internet is placing a new demand on forensic resources. Computers are piling up in evidence rooms across the country because many agencies do not have the forensic capacity to meet the needs of investigative efforts.

6. A generation ago, officers beginning their law enforcement careers would be issued a uniform, a service weapon, and a notebook. Those items rarely changed during a 20-year career. Today, changes in equipment and software occur seemingly overnight. Officers are hard-pressed to stay current not only with the technological changes but also with a motivated offender community that is adapting these new technologies to exploit children.

To address these observations and concerns, the ICAC Task Force Program implements the following management strategies:

• Maintaining and expanding the nationwide network of State and local law enforcement agencies participating in the program.

• Ensuring that ICAC Task Force personnel are adequately trained and equipped.

• Establishing and/or maintaining ICAC Task Force investigative standards to facilitate interagency case referrals.

• Advocating coordination and collaboration among Federal, State, and local law enforcement agencies investigating ICAC offenses.

• Fostering meaningful information-sharing to avoid redundant investigations or activities that could disrupt the ongoing investigations of other agencies.

• Maintaining an ICAC Task Force Board composed of local law enforcement executives and prosecutors to advise OJJDP, formulate policy recommendations, and assess the law enforcement community's needs for training and technical assistance related to investigating Internet crimes.

• Convening an annual ICAC Task Force training conference to focus on child exploitation, emerging technology, and its relevance to criminal activity and enforcement efforts and to enhance the networking essential for sustaining an effective State and local law enforcement response to online crime.

OJJDP established the ICAC Task Force Program Standards through a collaborative process involving the ten original ICAC Task Force agencies, the FBI, NCMEC, USCS, USPIS, CEOS, and the Executive Office for United States Attorneys. The standards were designed by the task force agencies to foster information-sharing, coordinate investigations, ensure the probative quality of undercover operations, and facilitate interagency case referrals by standardizing investigative practices. In 2002, the ICAC standards were revised and updated to reflect twenty additional ICAC Regional Task Forces and an expanded program focus on the protection of children.

OJJDP has also established an ICAC Task Force Board (the Board) to help administer the ICAC Task Force Program. As a condition of the award, each grantee must designate a policy-level law enforcement official or prosecutor to be a Board member. Although its primary responsibility is to serve as an advisory group to OJJDP, the Board also encourages case coordination and facilitates information-sharing on trends, innovative investigative techniques, and prosecution strategies. Technical advice is provided to the Board by NCMEC, CEOS, the FBI, USCS, and USPIS.

The award also requires that each ICAC Regional Task Force member send at least one investigator and one policy-level official to an ICAC Task Force Program orientation seminar. The seminars, which were developed by OJJDP and NCMEC in consultation with Federal law enforcement agencies, provide information on legal issues, specific investigative techniques, undercover operation documentation requirements, behavioral characteristics of preferential sex offenders, and other topics relevant to child exploitation cases.

To learn about the next seminar scheduled at NCMEC's Jimmy Ryce Law Enforcement Training Center in Alexandria, VA, contact NCMEC at http://www.missingkids.com. Expenses associated with attendance at the orientation seminar will be reimbursed by OJJDP and NCMEC. Expenses associated with Board responsibilities will be covered by grant funds.

Goal

The program's goal is to enhance the ICAC investigative response of State and local law enforcement agencies.

Objectives

Projects must accomplish the following objectives:

• Develop or expand multiagency, multijurisdictional regional task forces that include, but are not limited to, representatives from law enforcement, prosecution, victim services, and child protective services agencies. Regional task forces should include large regional geographic areas, entire States, or, when applicable, multiple States. Relevant nongovernment organizations may also be included. OJJDP encourages applicants to invite Federal law enforcement agencies to participate in the task force.

• Institute policies and procedures that comply with the ICAC Task Force Program Standards (see “OJJDP Program Management” above). Requests from eligible law enforcement agencies for copies of the ICAC Program Operational and Investigative Standards must be faxed on official letterhead to the Juvenile Justice Clearinghouse at 301-519-5600.

• Enhance investigative capacity by properly equipping and training ICAC Task Force investigators. Task force investigators should be computer-literate, knowledgeable about child exploitation issues, and familiar with Federal and State statutes and caselaw pertaining to ICAC investigations.

• Develop and maintain case management systems to record offenses and investigative results, make or receive outside agency referrals of ICAC cases, and comply with the reporting requirements of the ICAC Task Force Monthly Performance Measures Report.

• Develop response protocols or memorandums of understanding that foster collaboration, information-sharing, and service integration among public and private organizations that provide services to sexually exploited children.

Eligibility Requirements

Applicants must be State and/or local law enforcement agencies located in Arkansas; New Jersey; northern Florida; ⁴ the Los Angeles, California, metropolitan area,⁵ or the northern Virginia/Washington, DC, metropolitan area (excluding Maryland).⁶ Joint applications from two or more eligible applicants are welcome; however, one applicant must be clearly designated as the primary applicant (for correspondence, award, and management purposes) and the other(s) designated as coapplicant(s).

⁴ For the purpose of this solicitation, northern Florida is defined as counties and cities north of, and including, Hillsborough County, Indian River County, Osceola County, and Polk County.

⁵ For the purpose of this solicitation, the Los Angeles metropolitan area is defined as cities and towns within, and including, Los Angeles County, Orange County, Riverside County, San Bernardino County, and Ventura County.

⁶ For the purpose of this solicitation, the northern Virginia/Washington, DC, metropolitan area (excluding Maryland) is defined as the cities of Washington, DC; Alexandria, Virginia; and Falls Church, Virginia, and the cities and towns in Virginia within, and including: Arlington County, Fairfax County, Loudoun County, Prince William County, and Stafford County.

Selection Criteria

OJJDP is committed to establishing a network of state and local law enforcement agencies to respond to offenses involving online enticement and child pornography. Within this network, ICAC Task Forces positioned throughout the country will serve as regional sources of technical, educational, and investigative expertise, providing assistance to parents, teachers, law enforcement officers, and other professionals working on child sexual exploitation issues. Successful applicants will be expected to serve as regional clusters of ICAC technical and investigative expertise, collaborate with existing ICAC Task Forces, and become part of a nationwide law enforcement network designed to protect children from computer-facilitated victimization. To accomplish this goal, regional task forces should include large regional geographic areas, entire States, or, when applicable, multiple States.

Applications should include evidence of multidisciplinary, multijurisdictional partnerships among public agencies, private organizations, community-based groups, and prosecutors' offices. Successful applicants will develop or enhance an investigative ICAC response that includes prevention, education, and victim services activities.

OJJDP will convene a peer review panel to evaluate and rank applications and to make funding recommendations to the OJJDP Administrator. Although peer review recommendations are given weight, they are advisory only. Final award decisions will be made by the OJJDP Administrator. OJJDP will negotiate the specific terms of the award with applicants who are being considered. Applicants will be evaluated and rated according to the criteria outlined below.

Application Procedures

The Office of Justice Programs (OJP) requires that applications be submitted through its online Grants Management System (GMS). This online application system is designed to streamline the processing of requests for funding. A toll-free telephone number (888-549-9901) is available to provide applicants with technical assistance as they work through the online application process.

Applicants should use the following application guidelines when preparing their application for this grant program. Applications must be submitted to OJP electronically through GMS no later than 8 p.m., e.t., on July 7, 2003. However, in order to allow adequate time to register with GMS, applicants must create a “user profile” before June 19, 2003. Applicants who have previously registered with GMS and have a GMS password should log on to GMS prior to June 19, 2003, to determine whether the password is still valid. If the password has expired, follow the on-screen instructions or call the GMS Hotline (888-549-9901). OJJDP will begin accepting applications immediately.

Application Requirements

Applicants to the Internet Crimes Against Children Task Force Program solicitation must submit the following information online through GMS:

• Application for Federal Assistance (SF-424). This form is generated by completing the Overview, Applicant Information, and Project Information screens in GMS.

• Assurances and Certifications. The Assurances and Certifications must be reviewed and accepted electronically by the authorizing official or the designated authorizing official.

• Budget Detail Worksheet (Attachment #1). The Budget Detail Worksheet—including budget worksheets and detailed budget narratives for each year in the project period—accounts for 15 of the possible 100 points allotted by the peer reviewers.

• Program Narrative (Attachment #2). The Program Narrative—including Problem(s) To Be Addressed, Goals and Objectives, Project Design, and Management and Organizational Capability—accounts for 85 out of the possible 100 points allotted by the peer reviewers. Point values for specific sections of the Program Narrative are as follows: Problem(s) To Be Addressed (10 points), Goals and Objectives (10 points), Project Design (35 points), and Management and Organizational Capability (30 points).

• Other Program Attachments (Attachment #3). The Other Program Attachments—including resumes of key personnel and a project timeline—will not be included in the peer reviewers' scoring of the application. However, these materials are required and must be attached in one file to your GMS application.

Detailed instructions and descriptions of each of the required elements are provided below. Note: Applications that do not include all the required elements will not be considered for funding.

Application for Federal Assistance (SF-424)

The Application for Federal Assistance is a standard form used by most Federal agencies. The Catalog of Federal Domestic Assistance (CFDA) number for this program is 16.543.

Assurances and Certifications

Applicants are required to review and accept the Assurances and Certifications. Please verify that the name, address, phone number, fax number, and e-mail address of the authorizing official on these online forms are correct.

• Assurances. Applicants must comply with the Assurances to receive Federal funds under this program. It is the responsibility of the recipient of the Federal funds to fully understand and comply with these requirements. Failure to comply may result in the withholding of funds, termination of the award, or other sanctions.

• Certifications Regarding Lobbying; Debarment, Suspension, and Other Responsibility Matters; and the Drug-Free Workplace Requirement. Applicants are required to review and check off the box on the certification form included in the online application process. This form commits the applicant to compliance with the certification requirements under 28 CFR part 69, “New Restrictions on Lobbying,” and 28 CFR part 67, “Government-Wide Debarment and Suspension (Nonprocurement) and Government-Wide Requirements for Drug-Free Workplace (Grants).”

The authorizing official must review the Assurances and Certifications forms in their entirety. To accept the Assurances and Certifications in GMS, click on the Assurances and Certifications link and click the “Accept” button at the bottom of the screen.

Budget Detail Worksheet (Attachment #1) (15 Points)

Applicants must provide a proposed budget that is complete, detailed, reasonable, allowable, and cost-effective in relation to the activities to be undertaken. Budgets must allow for required travel, including four trips for one individual to attend the quarterly ICAC Task Force Board meetings. Budgets must also allow for the participation of at least two agency representatives at the annual ICAC Training Conference.

Applicants must submit budget worksheets and budget narratives in one file. The worksheet provides the detailed computation for each budget item (often in spreadsheet format). The narrative justifies or explains each budget item and relates it to project activities.

• Budget Worksheet. The budget worksheet must list the cost of each budget item and show how the cost was calculated. For example, costs for personnel should show the annual salary rate and the percentage of time devoted to the project for each employee to be paid through grant funds. The budget worksheet should present a complete and detailed itemization of all proposed costs.

• Budget Narrative. The budget narrative should closely follow the content of the budget worksheet and provide justification for all proposed costs. For example, the narrative should explain how fringe benefits were calculated, how travel costs were estimated, why particular items of equipment or supplies must be purchased, and how overhead or indirect costs (if applicable) were calculated. The budget narrative should justify the specific items listed in the budget worksheet (particularly supplies, travel, and equipment) and demonstrate that all costs are reasonable.

A sample Budget Detail Worksheet form that can be used as a guide to help applicants prepare the budget worksheet and budget narrative is available at http://www.ojp.usdoj.gov. (Use the main search engine to search for “Budget Detail Worksheet.”)

Program Narrative (Attachment #2) (85 Total Points)

Problem(s) To Be Addressed (10 Points)

Applicants must clearly identify the need for this project in their communities and demonstrate an understanding of the program concept. Applicants must include data that illustrate the size and scope of the problem in their State or region. If statistics or other research findings are used to support a statement or position, applicants must provide the relevant source of information.

Goals and Objectives (10 Points)

Applicants must establish clearly-defined, measurable, and attainable goals and objectives for this program.

Project Design (35 Points)

Applicants must explain in clear terms how the State or regional task force will be developed and implemented. Applicants must define the region, State, or, when applicable, the multistate area in which the task force intends to concentrate its efforts. Applicants must present a clear workplan that contains program elements directly linked to achieving the project objectives. The workplan must indicate project milestones, product due dates, and the nature of the products to be delivered.

Management and Organizational Capability (30 Points)

The management structure and staffing described in the application must be adequate and appropriate for the successful implementation of the project. Applicants must identify individuals responsible for the project and their time commitments. Applicants must provide a schedule of major tasks and milestones. Applicants must describe how activities that prevent Internet crimes against children will be continued after Federal funding is no longer available. In addition, applicants must provide signed letters of support from State and local prosecution offices and the local district United States Attorney.

Other Program Attachments (Attachment #3)

At a minimum, resumes of key personnel and a project timeline should be included.

Application Format

The narrative portion of this application (excluding forms, assurances, and appendixes) must not exceed 35 pages and must be submitted on 8½- by 11-inch paper and double spaced on one side in a standard 12-point font. The double-spacing requirement applies to all parts of the program narrative and project abstract, including any lists, tables, bulleted items, or quotations. These standards are necessary to maintain fair and uniform consideration among all applicants. If the narrative and abstract do not conform to these standards, OJJDP will deem the application ineligible for consideration.

Project and Award Period

These cooperative agreements will be funded for up to an 18-month budget and project period and will begin June 1, 2003, and end November 30, 2004. Funding beyond the initial project period will be contingent upon the grantee's performance and the availability of funds.

Award Amount

The total amount available for this program is $1.5 million. OJJDP intends to award five cooperative agreements of up to $300,000 each for the 18-month project period.

Performance Measurement

To ensure compliance with the Government Performance and Results Act, Pub. L. 103-62, this solicitation notifies applicants that they are required to collect and report on data that measure the results of the program implemented by this grant. To ensure the accountability of this data (for which OJP is responsible) the following performance measures are provided:

• The number of investigations.

• The number of computer forensic examinations.

Under this solicitation, applicants will be required to supply OJJDP with the above performance information. In addition, OJJDP will measure the performance of the ICAC Task Force Program. Data collection will be covered within the existing ICAC Monthly Performance Report (MPR) forms. MPR is a required data-reporting document that was created by OJJDP to collect ICAC data related to arrests, subpoenas, search warrants, technical assistance (investigative and computer forensic), and prevention and intervention activities performed by ICAC Regional Task Forces and ICAC Investigative Satellites. Data gathered from MPRs will track the number of arrests made and the outcomes of those arrests (plea bargains, prosecutions, etc.), assist in the identification of victims who need resources such as counseling and therapy, and track tips and aid in target area identification.

Data collected from MPRs will provide crucial baseline data necessary for a future evaluation of the ICAC Task Force Program after it has been fully established throughout the country. Assistance in obtaining this information will facilitate future program planning and will allow OJP to provide Congress with measurable program results of Federally funded programs.

Coordination of Federal Efforts

To encourage better coordination among Federal agencies in addressing State and local needs, the U.S. Department of Justice requests that applicants provide information on the following: (1) Active Federal grant award(s) supporting this or related efforts, including awards from the U.S. Department of Justice; (2) any pending application(s) for Federal funds for this or related efforts; and (3) plans for coordinating any funds described in items (1) or (2) with the funding sought by this application. For each Federal award, applicants must include the program or project title, the Federal grantor agency, the amount of the award, and a brief description of its purpose.

“Related efforts” is defined for these purposes as one of the following:

• Efforts for the same purpose (i.e., the proposed award would supplement, expand, complement, or continue activities funded with other Federal grants).

• Another phase or component of the same program or project (e.g., to implement a planning effort funded by other Federal funds or to provide a substance abuse treatment or education component within a criminal justice project).

• Services of some kind (e.g., technical assistance, research, or evaluation) rendered to the program or project described in the application.

Bibliography

Burgess, A., and Grant, C. 1988. Children Traumatized in Sex Rings. Alexandria, VA: National Center for Missing and Exploited Children.

Cage, R., and Pence, D. 1997. Criminal Investigation of Child Sexual Abuse. Portable Guide. Washington, DC: U.S. Department of Justice, Office of Justice Programs, Office of Juvenile Justice and Delinquency Prevention.

Dressler, K. 1997. Multijurisdictional Task Forces: Ten Years of Research and Evaluation: A Report to the Attorney General. Washington, DC: U.S. Department of Justice, Office of Justice Programs, Bureau of Justice Assistance.

Finkelhor, D., Mitchell, K., and Wolak, J. 2000. Online Victimization: A Report on the Nation's Youth. Alexandria, VA: National Center for Missing and Exploited Children.

Hammerschlag, M. 1996. Sexually Transmitted Diseases and Child Sexual Abuse. Portable Guide. Washington, DC: U.S. Department of Justice, Office of Justice Programs, Office of Juvenile Justice and Delinquency Prevention.

Lanning, K. 1992. Child Molesters: A Behavioral Analysis for Law Enforcement Officers Investigating Cases of Child Sexual Exploitation. Alexandria, VA: National Center for Missing and Exploited Children.

Lanning, K. 1992. Child Sex Rings: A Behavioral Analysis for Criminal Justice Professionals Handling Cases of Child Sexual Exploitation. Alexandria, VA: National Center for Missing and Exploited Children.

Lanning, K., and Farley, R. 1997. Understanding and Investigating Child Sexual Exploitation. Portable Guide. Washington, DC: U.S. Department of Justice, Office of Justice Programs, Office of Juvenile Justice and Delinquency Prevention.

Magid, L. 1994. Child Safety on the Information Highway. Pamphlet. Alexandria, VA: National Center for Missing and Exploited Children.

Magid, L. 1998. Teen Safety on the Information Highway. Pamphlet. Alexandria, VA: National Center for Missing and Exploited Children.

National Center for Missing and Exploited Children. 1998. Know the Rules. Pamphlet. Alexandria, VA: National Center for Missing and Exploited Children.

Quarantiello, L. 1997. Cyber Crime: How to Protect Yourself from Computer Criminals. Lake Geneva, WI: Tiare Publications.

Rosenblatt, K. 1995. High-Technology Crime: Investigating Cases Involving Computers. San Jose, CA: KSK Publications.

Saywitz, K., and Faller, K. 1997. Interviewing Child Witnesses and Victims of Sexual Abuse. Portable Guide. Washington, DC: U.S. Department of Justice, Office of Justice Programs, Office of Juvenile Justice and Delinquency Prevention.

Whitcomb, D. 1995. Child Sexual Exploitation: Improving Investigations and Protecting Victims: A Blueprint for Action. Washington, DC: U.S. Department of Justice, Office of Justice Programs, Office for Victims of Crime.

Dated: May 30, 2003.
J. Robert Flores,
Administrator, Office of Juvenile Justice and Delinquency Prevention.

[FR Doc. 03-14035 Filed 6-3-03; 8:45 am]

BILLING CODE 4410-18-P